DEPARTMENT OF ENERGY

Federal Energy Regulatory Commission

[Docket No. EL15-44-000]

Sage Grouse Energy Project, LLC; Notice Rejecting Request for Extension of Time

December 22, 2015.

On December 3, 2015, the Commission issued an order denying a complaint filed by Sage Grouse Energy Project, LLC (Sage Grouse) against PacifiCorp under Rule 206(a) of the Commission's Rules of Practice and Procedure.¹ On December 16, 2015, Sage Grouse filed a motion for extension of time and waiver, asking the Commission to grant a 30-day extension of time for Sage Grouse to determine whether to file a request for rehearing of the December 3 Order.

¹ Sage Grouse Energy Project, LLC, 153 FERC ¶ 61,272 (2015) (December 3 Order).

Pursuant to section 313(a) of the Federal Power Act,² an aggrieved party must file an application for rehearing within thirty days after the issuance of the Commission's order. Moreover, the courts and the Commission have repeatedly recognized that the time period by which a party may file an application for rehearing of a Commission order is statutorily established at 30 days and that the Commission has no discretion to extend that deadline.³ Because the 30-day rehearing deadline is a statutory deadline, it cannot be extended, and Sage Grouse's request for a 30-day extension must therefore be rejected.

² 16 U.S.C. 825l(a) (2012).

³ See, e.g., City of Campbell v. FERC, 770 F.2d 1180, 1183 (D.C. Cir. 1985) (“The 30-day time requirement of the [FPA] is as much a part of the jurisdictional threshold as the mandate to file for a rehearing.”); Boston Gas Co. v. FERC, 575 F.2d 975, 977-98, 979 (1st Cir. 1978) (describing identical rehearing provision of Natural Gas Act as “a tightly structured and formal provision. Neither the Commission or the courts are given any form of jurisdictional discretion.”); see also PJM Interconnection, L.L.C., 138 FERC ¶ 61,160 (2012) (rejecting request for clarification as untimely request for rehearing); La. Energy and Power Auth., 117 FERC ¶ 61,258 (2006); Midwest Indep. Transmission Sys. Operator, Inc., 112 FERC ¶ 61,211, at P 10 (2005); Texas-New Mexico Power Co., 107 FERC ¶ 61,316, at P 22 (2004); Cal. Indep. Sys. Operator Corp., 105 FERC ¶ 61,322, at P 9 (2003); Am. Elec. Power Serv. Corp., 95 FERC ¶ 61,130, at 61,411-12 (2001).

Dated: December 22, 2015.
Nathaniel J. Davis, Sr.,
Deputy Secretary.

[FR Doc. 2015-32693 Filed 12-28-15; 8:45 am]

BILLING CODE 6717-01-P